DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permit.

SUMMARY: In accordance with the procedures governing the application for, and the processing of, special permits from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of special permits (e.g., to provide for additional hazardous materials, packaging design changes, additional mode of transportation, etc.) are described in footnotes to the application number. Application numbers with the suffix “M” denote a modification request. These applications have been separated from the new application for special permits to facilitate processing.

DATES: Comments must be received on or before January 2, 2009.

Address Comments to: Record Center, Pipeline and Hazardous Materials Safety Administration, U.S. Department of Transportation, Washington, DC 20590. Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://dms.dot.gov.

This notice of receipt of applications for modification of special permit is published in accordance with Part 107 of the Federal hazardous materials transportation law (49 U.S.C. 5117(b); 49 CFR 1.53(b)).

Issued in Washington, DC, on December 11, 2008.
Delmer F. Billings,
Director, Office of Hazardous Materials, Special Permits and Approvals.

Modification Special Permits
Application No. | Docket No. | Applicant | Regulation(s) affected | Nature of special permit thereof
11526-M |  | Linde North America, Inc., Murray Hill, NJ | 49 CFR 172.302(c), (2), (3), (4), (5); 173.34(e)(1), (3), (4), (8); 173.34(15)(vi) | To modify the special permit to permit to authorize UE examination of certain cylinders manufactured under other specified special permits.
12399-M |  | Linde North America, Inc., Murray Hill, NJ | 49 CFR 73.34(e)(1); 173.34(e)(3); 173.34(e)(4); 173.34(e)(8); 173.34(e)(14); 173.34(e)(15)(vi) | To modify the special permit to authorize removal of a test procedure for cylinders no longer in use by the applicant.
12930-M |  | Roeder Cartage Company, Inc., Lima, OH | 49 CFR 180.407(c), (e) and (f) | To modify the special permit to add an additional cargo tank.
14283-M |  | U.S. Department of Energy (DOE), Washington, DC | 49 CFR Part 172, Subparts E, F; 171.15; 171.16; 172.202; 172.203(c)(1)(i); 172.203(d)(1); 172.310; 172.316(a)(7); 172.331(b)(2); 172.332; 173.403(c); 173.425(c)(1)(iii); 173.425(c)(5); 173.443(a); 174.24; 174.25; 174.45; 174.59; 174.700; 174.715; 177.807; 177.843(a) | To modify the special permit to clarify the use of flat rail cars with capacity of four intermodal containers and maximum capacity of 160 tons.
14429-M |  | Schering-Plough, Summit, NJ | 49 CFR 173.306(a)(3)(v) | To modify the special permit to authorize an alternative testing method for bag-on-valve spray packaging similar to an aerosol container.
14437-M |  | Columbiana Boiler Company (CBCo) LLC, Columbiana, OH | 49 CFR 179.300 | To modify the special permit to remove the requirement to report all repairs made to pressure vessels.
14544-M |  | DS Containers, Inc., Batavia, IL | 49 CFR 173.306(a)(3)(v) | To modify the special permit to authorize cargo aircraft as an approved mode of transportation.
14562-M |  | The Lite Cylinder Company, Franklin, TN | 49 CFR 173.304a(a)(1) | To modify the special permit to authorize larger cylinders.
14661-M |  | FIBA Technologies, Inc., Millbury, MA | 49 CFR 180.209(a); 180.209(b) | To modify the special permit to authorize smaller cylinders to be UE tested under this special permit.
14700-M |  | Fleck Controls, LLC, Chardon, OH | 49 CFR 173.302(a) and 173.306(g) | To modify the special permit to authorize an increase to the tank's maximum operating pressure from 100 psig to 125 psig.
14772-M |  | Alpha-Omega Services, Inc., Bellflower, CA | 49 CFR 173.413 | To reissue the special permit originally issued on an emergency basis to authorize use of Type B packages for transportation in commerce of radioactive materials.

[FR Doc. E8-29827 Filed 12-17-08; 8:45 am]

BILLING CODE 4909-60-M